DEPARTMENT OF DEFENSE

Department of the Army; Corps of Engineers

Intent To Prepare an Environmental Impact Statement for the Proposed Placer Vineyards Project, Corps Permit Application Number 199900737

AGENCY: Department of the Army, U.S. Army Corps of Engineers, DoD.

ACTION: Notice of intent.

SUMMARY: The Placer Vineyards Specific Plan Property Group proposes to construct a mixed-use master planned community with residential, employment, commercial, open space, recreational and public/quasi-public land uses. The Plan provides for 14,132 homes in a variety of housing types, styles, and densities. At full Plan build-out, projected to occur over a 20- to 30-year time period, Placer Vineyards will have a population of approximately 33,000 people, 42 acres of employment centers, 140 acres of retail commercial centers and approximately 930 acres of new parks and open space. This project, as proposed, would result in impacts to approximately 102.7 acres of waters of the United States, including 8.5 acres of temporary impacts to water and wetlands.

DATES: Two scoping meetings will be held on March 28, 2007. The first meeting will be conducted from 3 p.m. to 5 p.m., and the second will be conducted from 6 p.m. to 8 p.m.

ADDRESSES: The meetings will be held at the Placer County Community Development Resource Center, Planning Commission Hearing Room, 3091 County Center Drive (corner of Bell Road and Richardson), Auburn, CA 95603.

FOR FURTHER INFORMATION CONTACT: Questions about the proposed action and the Draft Environmental Impact Statement can be answered by Tom Cavanaugh, (916) 557-5261, e-mail: thomas.j.cavanaugh@usace.army.mil.

SUPPLEMENTARY INFORMATION: The applicants have applied for a Department of the Army permit under Section 404 of the Clean Water Act to construct a large-scale mixed-use development project. As part of the Section 404(b)(1) application process, the development of an Environmental Impact Statement (EIS) is required. No project alternatives have been defined to date. The proposed project and the alternatives to its proposed size, design and location will be developed through the EIS process.

Although wetland delineations have been conducted for each of the participating properties, some have not yet been verified. Based upon the best currently available information, approximately 156.1 acres of waters of the United States have been delineated within the participating properties. Of the 156.1 acres mapped on site, the applicants propose to result in impacts to approximately 61.3 acres of waters of the United States and to avoid approximately 60.1 acres of waters of the United States for construction of the project (not including infrastructure). For development of the infrastructure elements, the applicants propose to affect an estimated 41.4 acres of waters of the United States. Thus, the combined total proposed impacts to waters of the United States for all elements of this comprehensive permit application would affect 102.7 acres.

The Placer Vineyards Plan Area is bounded on the north by Baseline Road, on the south by the Sacramento/Placer County line, on the west by the Sutter/Placer County line and Pleasant Grove Road, and on the east by Dry Creek and Walerga Road. East to west, the Specific Plan area spans approximately 6 miles. North to south, at its widest point, it spans approximately 2 miles.

The Corps' public involvement program includes several opportunities to provide oral and written comments. Affected Federal, state, local agencies, Indian tribes and other interested private organizations and parties are invited to participate. Significant issues to be analyzed in depth in the EIS include, loss of waters to the United States, including vernal pools and other wetlands; cultural resources; threatened and endangered species; surface water and groundwater; water quality; socio-economic effects, and aesthetics.

The Corps will initiate formal consultation with the U.S. Fish and Wildlife Service and the National Marine Fisheries Service under Section 7 of the Endangered Species Act for two federally threatened and endangered species that may be affected by this project. In addition, the Corps will be consulting with the State Historic Preservation Officer under Section 106 of the National Historic Preservation Act regarding potential impacts to sites listed or eligible for listing on the National Register of Historic Places.

The estimated date when the EIS will be made available to the public is December 2008.

Dated: March 7, 2007.
James A. Porter,
Lt. Col., Corps of Engineers, Deputy District Engineer.

[FR Doc. 07-1287 Filed 3-15-07; 8:45 am]

BILLING CODE 3710-EZ-M